DEPARTMENT OF EDUCATION

[Docket No.: ED-2020-SCC-0126]

Agency Information Collection Activities; Submission to the Office of Management and Budget for Review and Approval; Comment Request; Application Forms and Instructions for the Centers for International Business Education (84.220a) Program

AGENCY: Office of Postsecondary Education (OPE), Department of Education (ED).

ACTION: Notice.

SUMMARY: In accordance with the Paperwork Reduction Act of 1995, ED is proposing an extension of an existing information collection.

DATES: Interested persons are invited to submit comments on or before September 9, 2020.

ADDRESSES: Written comments and recommendations for proposed information collection requests should be sent within 30 days of publication of this notice to www.reginfo.gov/public/do/PRAMain. Find this particular information collection request by selecting “Department of Education” under “Currently Under Review,” then check “Only Show ICR for Public Comment” checkbox.

FOR FURTHER INFORMATION CONTACT: For specific questions related to collection activities, please contact Timothy Duvall, 202-453-7521.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Application Forms and Instructions for the Centers for International Business Education (84.220a) Program.

OMB Control Number: 1840-0616.

Type of Review: An extension of an existing information collection.

Respondents/Affected Public: Private Sector.

Total Estimated Number of Annual Responses: 27.

Total Estimated Number of Annual Burden Hours: 2,700.

Abstract: This information collection (OMB 1840-0616) includes application instructions and forms for the Centers for International Business Education (CIBE) Program (CFDA Number 84.220A) authorized under Title VI of the Higher Education Act of 1965, as amended (20 U.S.C. Sections 611 and 612). The type of collection is an extension of a previously-approved information collection (application).

Centers for International Business Education (CIBEs) offer consulting services on international business and marketing to businesses in their areas, develop business language curriculum, and teach international business topics to undergraduate and graduate students. They also partner with businesses and professional associations to offer internships and other real-world experience to prepare career-ready international business students. CIBEs serve to strengthen the American economy in our increasingly interconnected world by enabling U.S. citizens and companies to compete in the international business arena.

The CIBE program provides grants for up to 48 months to pay the Federal share of the cost of planning, establishing, and operating Centers for International Business Education. Eligible applicants are U.S. institutions of higher education or combinations of such institutions.

This program responds to the ongoing national need for individuals with expertise and competence in world languages, international business, and U.S. global economic competitiveness; advance national security by developing a pipeline of highly proficient linguists and experts in critical world regions; and contribute to developing a globally competent workforce able to engage with a multilingual/multicultural clientele at home and abroad. Approval of this collection is necessary in order to conduct fiscal year (FY) 2022 program competitions.

Dated: August 4, 2020.
Kate Mullan,
PRA Coordinator, Strategic Collections and Clearance Governance and Strategy Division, Office of Chief Data Officer, Office of Planning, Evaluation and Policy Development.

[FR Doc. 2020-17337 Filed 8-7-20; 8:45 am]

BILLING CODE 4000-01-P